DEPARTMENT OF DEFENSE

Office of the Secretary

[Transmittal No. 22-0D]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 22-0D.

Dated: May 8, 2024.
Aaron T. Siegel,
Alternate OSD Federal Register Liaison Officer, Department of Defense.

Transmittal No. 22-0D

Report of Enhancement or Upgrade of Sensitivity of Technology or Capability (Sec. 36(B)(5)(C), AECA)

(i) Purchaser: Government of Greece

(ii) Sec. 36(b)(1), AECA Transmittal No.: 14-59

Date: December 11, 2014

Implementing Agency: Army

Funding Source: National Funds

(iii) Description: On December 11, 2014, Congress was notified by Congressional certification transmittal number 14-59 of the possible sale under Section 36(b)(1) of the Arms Export Control Act (AECA) of ten (10) CH-47D Model Chinook Helicopters to include twenty-three (23) T55-GA-714A Engines (20 installed and 3 spares), twelve (12) AN/AAR-57 Common Missile Warning System (10 installed and 2 spares), twelve (12) AN/ARC-220 High Frequency (HF) Radios, twelve (12) AN/ARC-186 Very High Frequency (VHF) AM/FM Radios, twelve (12) AN/ARC-164 Ultra High Frequency (UHF)-AM, twelve (12) AN/ARN 123 VOR ILS Marker Beacons, twelve (12) AN/ARN-89 or AN/ARN-149 Direction Finder Sets, twelve (12) AN/ASN-128 Doppler/Global Positioning System Navigation Sets, twelve (12) AN/ARC-201D or AN/ARC-201E VHF FM Homing Radios, twelve (12) AN/APX-118 Transponders, three (3) AN/APX-118A Transponders, twelve (12) AN/APR-39A(V)1 Radar Signal Detecting Sets, mission equipment, communication and navigation equipment, Maintenance Work Orders/Engineering Change Proposals (MWO/ECPs), aircraft hardware and software support, repair and return, spare and repair parts, publications and technical documentation, support equipment, minor modifications, personnel training and training equipment, U.S. government and contractor technical and engineering support services, and other related elements of logistics and program support. The estimated cost was $150 million. Major Defense Equipment (MDE) constituted $57.2 million of this total.

On February 5, 2021, Congress was notified by Congressional certification transmittal number 0D-21, of the possible sale of an additional eight (8) T55-GA-714A engines in support of Greece's CH-47D helicopter fleet. This addition resulted in an increase in MDE by $14 million to $71.2 million. The total estimated case value increased to $164 million.

This transmittal notifies the addition of a phased maintenance program and follow-on support services for the Hellenic Army's CH-47 helicopter fleet (non-MDE).

The total MDE value will remain $71.2 million. The total estimated program value will increase by $120 million to $284 million.

(iv) Significance: The proposed sale will provide continued maintenance and support to the Hellenic Army's CH-47 helicopters, which are used for firefighting, search and rescue, disaster relief, humanitarian support, counter-terrorism, and combat operations.

(v) Justification: This proposed sale will support the foreign policy and national security objectives of the United States by helping to improve the security of a NATO ally, which is an important partner for political stability and economic progress in Europe.

(vi) Sensitivity of Technology: The Sensitivity of Technology Statement contained in the original notification applies to articles and services reported here.

(vii) Date Report Delivered to Congress: March 8, 2022

[FR Doc. 2024-10383 Filed 5-10-24; 8:45 am]

BILLING CODE 6001-FR-P